DEPARTMENT OF ENERGY

Federal Energy Regulatory Commission

[Project No. 8700-006]

Amy Family Holdings, LLC, Amy Hydro LLC; Notice of Transfer of Exemption

1. On December 31, 2024, Amy Family Holdings, LLC, and Amy Hydro LLC, informed the Commission that the exemption from licensing for the Amy Ranch Project No. 8700, originally issued on October 11, 1985,¹ has been transferred to Amy Hydro LLC. The project is located on Deep Creek and Black Creek in Butte County, Idaho. The transfer of an exemption does not require Commission approval.

¹ Alan J. Amy, 33 FERC ¶ 62,045 (1985) (Order Granting Exemption from Licensing for a Conduit Hydroelectric Project).

2. Amy Hydro LLC is now the exemptee of the Amy Ranch Project No. 8700. All correspondence must be forwarded to: Ted S. Sorenson, Amy Hydro LLC, 711 E Turtle Point Dr., Ivins, UT 84738, telephone: (208) 589-6908; and as a secondary contact: Michael Jardine, Amy Hydro LLC, 534 Holliday Dr., Ammon, ID 83406, telephone: (208) 589-5256.

Dated: January 13, 2025.
Debbie-Anne A. Reese,
Secretary.

[FR Doc. 2025-01861 Filed 1-28-25; 8:45 am]

BILLING CODE 6717-01-P